FEDERAL COMMUNICATIONS COMMISSION

47 CFR Parts 1, 2, 90, 95, and 96

[GN Docket No. 12-354; FCC 14-49; DA 14-1071]

Commission Seeks Comment on Shared Commercial Operations in the 3550-3650 MHz Band; Extension of Reply Comment Period

AGENCY: Federal Communications Commission.

ACTION: Proposed rule; extension of reply comment period.

SUMMARY: In this document the Federal Communications Commission extends the deadline for filing reply comments on its Further Notice of Proposed Rulemaking (FNPRM) in this proceeding, which was previously published in the Federal Register.

DATES: Submit reply comments on or before August 15, 2014.

ADDRESSES: You may submit comments, identified by GN Docket No. 12-354 or FCC 14-49, by any of the following methods:

Federal Communications Commission's Web site: http://fjallfoss.fcc.gov/ecfs2/. Follow the instructions for submitting comments.

Mail: All hand-delivered or messenger-delivered paper filings for the Commission's Secretary must be delivered to FCC Headquarters at 445 12th St. SW., Room TW-A325, Washington, DC 20554. The filing hours are 8:00 a.m. to 7:00 p.m. All hand deliveries must be held together with rubber bands or fasteners. Any envelopes and boxes must be disposed of before entering the building. Commercial overnight mail (other than U.S. Postal Service Express Mail and Priority Mail) must be sent to 9300 East Hampton Drive, Capitol Heights, MD 20743. U.S. Postal Service first-class, Express, and Priority mail must be addressed to 445 12th Street SW., Washington, DC 20554.

People with Disabilities: Contact the FCC to request reasonable accommodations (accessible format documents, sign language interpreters, CART, etc.) by email: FCC504@fcc.gov or phone: 202-418-0530 or TTY: 202-418-0432.

FOR FURTHER INFORMATION CONTACT: Paul Powell, Attorney Advisor, Wireless Bureau's Mobility Division, at (202) 418-1613 or email at Paul.Powell@fcc.gov.

SUPPLEMENTARY INFORMATION: This is a summary of the Wireless Telecommunications Bureau's document in GN Docket No. 12-354, DA 14-1071, adopted and released July 28, 2014, which extends the reply comment filing deadline established in the FNPRM published under FCC No. 14-49 at 79 FR 31247, June 2, 2014. The full text of this document is available for inspection and copying during normal business hours in the FCC Reference Center, 445 12th Street SW., Washington, DC 20554. The complete text may be purchased from the Commission's copy contractor, Best Copy and Printing, Inc., 445 12th Street SW., Room CY-B402, Washington, DC 20554, (202) 488-5300, facsimile (202) 488-5563, or via email at fcc@bcpiweb.com. The full text may also be downloaded at: www.fcc.gov. Alternative formats are available to persons with disabilities by sending an email to fcc504@fcc.gov or by calling the Consumer & Governmental Affairs Bureau at 202-418-0530 (voice), 202-418-0432 (tty).

Summary

We extend the deadline for filing reply comments in response to the Further Notice of Proposed Rulemaking (FNPRM) to allow parties to more thoroughly address the complex technical, legal, and policy issues raised in the FNPRM and in the record. Interested parties will now have until August 15, 2014 to file reply comments.

On July 23, 2014, the Satellite Industry Association (SIA) filed a motion to extend the reply comment deadline for the FNPRM from August 1 until August 15, 2014. SIA asserts that additional time is needed to respond to significant technical issues raised in the extensive record. In addition, SIA notes that, during the scheduled reply comment period, many of the technical personnel responsible for analyzing issues raised in the FNPRM on behalf of SIA member companies will be unavailable. These personnel will be attending meetings of the ITU Joint Task Working Groups preparing for WRC-15.

On July 24, 2014, the Public Interest Spectrum Coalition, Utilities Telecom Council, and Wireless Internet Service Providers Association (Petitioners) filed a joint request (Joint Extension Request) to extend the reply comment deadline until August 15, 2014. Petitioners assert that extenuating circumstances warrant an extension and that the requested extension would be consistent with the public interest. Specifically, the Joint Extension Request asserts that additional time is needed to accurately assess and prepare responses to the relatively large volume of comments filed in response to the FNPRM, many of which addressed complicated technical issues. The Petitioners also note that the Commission's Electronic Comment Filing System was largely inaccessible during the two days following the July 14, 2014 comment deadline and that the Federal Register publication date of the FNPRM removed an additional two days from the contemplated reply comment window. In addition, the Petitioners note that many of the parties that have filed comments in this proceeding have also been participating in the Open Internet proceeding and other Commission rulemakings with overlapping deadlines. The Petitioners contend that the requested extension would not prejudice other parties or delay consideration of the record and that the Commission's work would be assisted by more robust participation in the reply comment phase.

It is the general policy of the Commission that extensions of time shall not be routinely granted. See 47 CFR1.46(a). However, under these circumstances, we agree that an extension of time to file reply comments is warranted to ensure that the Commission obtains a complete and thorough record in response to the FNPRM. The FNPRM sought comment on a wide variety of novel technical, policy and legal issues related to the establishment of the proposed Citizens Broadband Radio Service. We conclude that a short extension of time is warranted to enable interested parties sufficient opportunity to review and respond to the complex issues raised by the FNPRM. Accordingly, pursuant to section 4(i) of the Communications Act of 1934, 47 U.S.C. 154(i), as amended, and section 1.46 of the Commission's rules, 47 CFR 1.46, we extend the deadline for filing reply comments until August 15, 2014.

Federal Communications Commission.
John Leibovitz,
Deputy Chief, Wireless Telecommunications Bureau.

[FR Doc. 2014-18612 Filed 8-5-14; 8:45 am]

BILLING CODE 6712-01-P